DEPARTMENT OF HOMELAND SECURITY

Bureau of Customs and Border Protection

Departmental Advisory Committee on Commercial Operations of the Bureau of Customs and Border Protection (COAC); Notice of Meeting

AGENCY: Bureau of Customs and Border Protection, Department of Homeland Security.

ACTION: Notice of meeting.

SUMMARY: This notice announces the date, time, and location for the second meeting of the ninth term of the Departmental Advisory Committee on Commercial Operations of the Bureau of Customs and Border Protection (COAC), and the expected agenda for its consideration.

DATES: The next meeting of the COAC will be held on Friday, April 2, 2004,9:30 a.m. to 1 p.m.

ADDRESSES: The meeting of the Departmental Advisory Committee on Commercial Operations of the Bureau of Customs and Border Protection (COAC) will be held in the Ronald Reagan Building, Horizon Room, located at 1300 Pennsylvania, NW., Washington, DC 20229.

FOR FURTHER INFORMATION CONTACT: Vetta Jeffries, 202-282-8468.

SUPPLEMENTARY INFORMATION: This meeting is open to the public; however, participation in COAC deliberations is limited to COAC members, Homeland Security and Treasury Department officials, and persons invited to attend the meeting for special presentations. Since seating is limited, all persons attending this meeting should provide notice and obtain clearance from Vetta Jeffries, 202-282-8468, no later than 2 p.m. e.s.t. on Wednesday, March 31, 2004.

Information on Services for Individuals With Disabilities

For information on facilities or services for individuals with disabilities or to request special assistance at the meeting, contact Vetta Jeffries at 202-282-8468 as soon as possible.

Draft Agenda

The COAC is expected to pursue the following agenda, which may be modified prior to the meeting:

1. Update on Agriculture Subcommittee Activities

2. Update on International Trade Data System (ITDS)

3. Update on Security Subcommittee Activities (Advance Cargo Information, Customs—Trade Partnership against Terrorism (C-TPAT), Vehicle and Cargo Inspection System (VACIS)

4. DHS Reorganization (status, COAC opportunity to respond)

5. MTSA Implementation Subcommittee

6. Update on Focused Assessment Program/Importer Self Assessment.

C. Stewart Verdery,
Assistant Secretary for Border and Transportation Security Policy and Planning.

[FR Doc. 04-6172 Filed 3-18-04; 8:45 am]

BILLING CODE 4410-10-P